DEPARTMENT OF ENERGY

Federal Energy Regulatory Commission

[Docket No. RP02-27-000]

Texas Gas Transmission Corporation; Notice of Tariff Filing

November 6, 2001.

Take notice that on October 31, 2001, Texas Gas Transmission Corporation (Texas Gas) tendered for filing as part of its FERC Gas Tariff, First Revised Volume No. 1, Fifth Revised Sheet No. 186, to become effective December 1, 2001.

Texas Gas states that the revised tariff sheet is being filed to modify Texas Gas' tariff to provide for a general waiver of the “shipper must have title rule” in the event that Texas Gas is transporting gas for others on acquired off-system capacity and to include a general statement that Texas Gas will only transport for others using off-system capacity pursuant to its existing tariff and rates. In addition, Texas Gas has revised section 18 of its General Terms and Conditions to reflect current rights held by Texas Gas on upstream pipelines as extensions of its pipeline system by removing previously expired contracts.

Texas Gas states that copies of the revised tariff sheets are being mailed to Texas Gas's jurisdictional customers and interested state commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-28285 Filed 11-9-01; 8:45 am]

BILLING CODE 6717-01-P